DEPARTMENT OF HOMELAND SECURITY

Coast Guard

33 CFR Part 165

[Docket No. USCG-2007-0061, formerly COTP St. Petersburg 07-226]

RIN 1625-AA87

Security Zone; Manbirtee Key, Port of Manatee, FL

AGENCY: Coast Guard, DHS.

ACTION: Final rule.

SUMMARY: The Coast Guard is establishing a new security zone in the Manbirtee Key area of Port Manatee, Florida. The purpose of this security zone is to ensure the security of vessels, facilities, and the surrounding area. Entry into the security zone is prohibited without the permission of the Captain of the Port.

DATES: This rule is effective February 21, 2008.

ADDRESSES: Comments and material received from the public, as well as documents indicated in this preamble as being available in the docket, are part of docket number USCG-2007-0061 (formerly COTP St. Petersburg 07-226) and are available for inspection or copying at Coast Guard Sector St. Petersburg, Prevention Department, 155 Columbia Drive, Tampa, FL 33606-3598 between 7:30 a.m. and 3:30 p.m., Monday through Friday, except Federal holidays. The rulemaking documents and comment received online are also available at www.regulations.gov.

FOR FURTHER INFORMATION CONTACT: Lieutenant Jessica Crandell at the Waterways Management Division, Sector St. Petersburg, FL (813) 228-2191 Ext. 8146.

SUPPLEMENTARY INFORMATION:

Regulatory Information

On November 6, 2007, we published a notice of proposed rulemaking (NPRM) entitled Security Zone; Manbirtee Key, Port of Manatee, FL in the Federal Register (72 FR 62613). We received no letters in the mail commenting on the proposed rule and one comment in the www.regulations.gov electronic docket. A public meeting was held on November 13, 2007, at 10 a.m. and no comments were made. A copy of the transcript is available through the http://www.regulations.gov Web site.

Background and Purpose

The Maritime Transportation Security Act authorized the establishment of Area Maritime Security Committees (AMSC) that “advise, consult with, report to, and make recommendations” on matters relating to maritime security in an AMSC's port area. See 46 U.S.C. 70112(a)(2) and 33 CFR 103.205. One topic the Tampa AMSC discussed is the existing security zones that were established following the terrorist attacks of September 11, 2001. These existing security zones, created to address identified security issues, were established September 3, 2003, codified in 33 CFR 165.760 (68 FR 52340, September 3, 2003), and September 1, 2003, codified in § 165.764 (68 FR 47852, August 12, 2003), after a number of temporary security zones.

In July 2007, using the newly-developed Maritime Security Risk Analysis tool, the AMSC working group evaluated risk to the maritime transportation system (MTS) within Tampa Bay, and assessed various risk mitigation options. The results of the risk assessment indicated the need to establish a new security zone in the vicinity of Manbirtee Key, FL.

Discussion of Comments

The Coast Guard received one question during the comment period: “What infrastructure are you [Coast Guard] protecting?” The purpose of the security zone is to protect pipeline infrastructures within 500 yards of the shore of Manbirtee Key. No changes from the proposed rule were made in response to this comment.

Discussion of Rule

This final rule creates a security zone in the following area: All waters of Tampa Bay, from surface to bottom, surrounding Manbirtee Key, Tampa Bay, FL extending 500 yards from the island's shoreline, in all directions, with the exception of the Port Manatee Channel.

Entry into or remaining on or within this zone would be prohibited unless authorized by the Captain of the Port Sector St. Petersburg or his designated representative. Persons desiring to transit the area of the security zone may contact the Captain of the Port St. Petersburg or his designee on VHF channel 16 to seek permission to transit the area. If permission is granted, all persons and vessels must comply with the instructions of the Captain of the Port or his designated representative.

Regulatory Evaluation

This rule is not a “significant regulatory action” under section 3(f) of Executive Order 12866, Regulatory Planning and Review, and does not require an assessment of potential costs and benefits under section 6(a)(3) of that Order. The Office of Management and Budget has not reviewed it under that Order.

We expect the economic impact of this final rule to be so minimal that a full Regulatory Evaluation is unnecessary. This final rule may have some impact on the public, but these potential impacts will be minimized for the following reasons: There is ample room for vessels to navigate around the security zone, and there are several locations for recreational and commercial fishing vessels to fish throughout the Tampa Bay Region. Properly vetted personnel who comply with additional requirements may gain authorization for entry through a port zone watch program. Also, the Captain of the Port may, on a case-by-case basis allow persons or vessels to enter a security zone.

The changes to the regulatory text that incorporate the response to the inquiry received during the comment period do not have any economic impact. The navigational charts of the area already indicate the submerged pipeline. Adding this description to the regulatory text has no impact on commerce.

Small Entities

Under the Regulatory Flexibility Act (5 U.S.C. 601-612), we have considered whether this rule would have a significant economic impact on a substantial number of small entities. The term “small entities” comprises small businesses, not-for-profit organizations that are independently owned and operated and are not dominant in their fields, and governmental jurisdictions with populations of less than 50,000.

The Coast Guard certifies under 5 U.S.C. 605(b) that this rule will not have a significant economic impact on a substantial number of small entities. No comments were received during the comment period regarding potential impacts on small entities.

Assistance for Small Entities

Under section 213(a) of the Small Business Regulatory Enforcement Fairness Act of 1996 (Pub. L. 104-121), we want to assist small entities in understanding this rule so that they can better evaluate its effects on them and participate in the rulemaking. If the rule would affect your small business, organization, or governmental jurisdiction and you have questions concerning its provisions or options for compliance, please contact the office listed under FOR FURTHER INFORMATION CONTACT, for assistance in understanding this rule. The Coast Guard will not retaliate against small entities that question or complain about this rule or any policy or action of the Coast Guard.

Collection of Information

This rule calls for no new collection of information under the Paperwork Reduction Act of 1995 (44 U.S.C. 3501-3520).

Federalism

A rule has implications for federalism under Executive Order 13132, Federalism, if it has a substantial direct effect on State or local governments and would either preempt State law or impose a substantial direct cost of compliance on them. We have analyzed this rule under that Order and have determined that it does not have implications for federalism. The changes to the regulatory text which address the inquiry made during the comment period do not have an impact on federalism. The navigational charts of the area already indicate the submerged pipeline. Adding this description to the regulatory text has no impact on commerce.

Unfunded Mandates Reform Act

The Unfunded Mandates Reform Act of 1995 (2 U.S.C. 1531-1538) requires Federal agencies to assess the effects of their discretionary regulatory actions. In particular, the Act addresses actions that may result in the expenditure by a State, local, or tribal government, in the aggregate, or by the private sector of $100,000,000 or more in any one year. Though this rule will not result in such an expenditure, we do discuss the effects of this rule elsewhere in this preamble.

Taking of Private Property

This rule will not effect a taking of private property or otherwise have taking implications under Executive Order 12630, Governmental Actions and Interference with Constitutionally Protected Property Rights.

Civil Justice Reform

This rule meets applicable standards in sections 3(a) and 3(b)(2) of Executive Order 12988, Civil Justice Reform, to minimize litigation, eliminate ambiguity, and reduce burden.

Protection of Children

We have analyzed this rule under Executive Order 13045, Protection of Children from Environmental Health Risks and Safety Risks. This rule is not an economically significant rule and does not create an environmental risk to health or risk to safety that may disproportionately affect children.

Indian Tribal Governments

This rule does not have tribal implications under Executive Order 13175, Consultation and Coordination with Indian Tribal Governments, because it does not have a substantial direct effect on one or more Indian tribes, on the relationship between the Federal Government and Indian tribes, or on the distribution of power and responsibilities between the Federal Government and Indian tribes.

Energy Effects

We have analyzed this rule under Executive Order 13211, Actions Concerning Regulations That Significantly Affect Energy Supply, Distribution, or Use. We have determined that it is not a “significant energy action” under that order because it is not a “significant regulatory action” under Executive Order 12866 and is not likely to have a significant adverse effect on the supply, distribution, or use of energy. The Administrator of the Office of Information and Regulatory Affairs has not designated it as a significant energy action. Therefore, it does not require a Statement of Energy Effects under Executive Order 13211.

Technical Standards

The National Technology Transfer and Advancement Act (NTTAA) (15 U.S.C. 272 note) directs agencies to use voluntary consensus standards in their regulatory activities unless the agency provides Congress, through the Office of Management and Budget, with an explanation of why using these standards would be inconsistent with applicable law or otherwise impractical. Voluntary consensus standards are technical standards (e.g., specifications of materials, performance, design, or operation; test methods; sampling procedures; and related management systems practices) that are developed or adopted by voluntary consensus standards bodies.

This rule does not use technical standards. Therefore, we did not consider the use of voluntary consensus standards.

Environment

We have analyzed this rule under Commandant Instruction M16475.lD which guides the Coast Guard in complying with the National Environmental Policy Act of 1969 (NEPA) (42 U.S.C. 4321-4370f), and have concluded that there are no factors in this case that would limit the use of a categorical exclusion under section 2.B.2 of the Instruction. Therefore, we believe that this rule should be categorically excluded, under figure 2-1, paragraph (34)(g), of the Instruction, from further environmental documentation. A final “Environmental Analysis Check List” and a final “Categorical Exclusion Determination” are available in the docket where indicated under ADDRESSES during the comment period. No comments were received regarding the impact to the environment in response to the proposed rule or the preliminary environmental analysis checklist for this security zone.

List of Subjects in 33 CFR Part 165

Harbors, Marine safety, Navigation (water), Reporting and recordkeeping requirements, Security measures, Waterways.

Words of Issuance and Regulatory Text

For the reasons discussed in the preamble, the Coast Guard amends 33 CFR part 165 as follows:

PART 165—REGULATED NAVIGATION AREAS AND LIMITED ACCESS AREAS

1. The authority citation for part 165 continues to read as follows:

Authority: 33 U.S.C. 1226, 1231; 46 U.S.C. Chapter 701; 50 U.S.C. 191, 195; 33 CFR 1.05-1(g), 6.04-1, 6.04-6 and 160.5; Pub. L. 107-295, 116 Stat. 2064; Department of Homeland Security Delegation No. 0170.1.

2. Add § 165.767 to read as follows:

§ 165.767 Security Zone; Manbirtee Key, Port of Manatee, Florida.

(a) Regulated area. The following area is a security zone: All waters, from surface to bottom, surrounding Manbirtee Key, Tampa Bay, FL extending 500 yards from the island's shoreline, in all directions, not to include the Port Manatee Channel.

(b) Definitions. As used in this section, designated representative means Coast Guard Patrol Commanders including Coast Guard coxswains, petty officers and other officers operating Coast Guard vessels, and Federal, State, and local officers designated by or assisting the Captain of the Port (COTP), in the enforcement of regulated navigation areas, safety zones, and security zones.

(c) Regulation. (1) Entry into or remaining on or within the security zone is prohibited unless authorized by the Captain of the Port Sector St. Petersburg or his designee.

(2) Persons desiring to transit the security zone may contact the Captain of the Port Sector St. Petersburg or his designee on VHF channel 16 to seek permission to transit the area. If permission is granted, all persons and vessels must comply with the instructions of the Captain of the Port or designated representative.

(3) Enforcement. Under § 165.33, no person may cause or authorize the operation of a vessel in the security zone contrary to the provisions of this section.

Dated: January 10, 2008.
J.A. Servidio,
Captain, U.S. Coast Guard, Captain of the Port Sector St. Petersburg.

[FR Doc. E8-1013 Filed 1-18-08; 8:45 am]

BILLING CODE 4910-15-P